NATIONAL AERONAUTICS AND SPACE ADMINISTRATION

[Notice: (10-122)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA PRA Officer, NASA Headquarters, 300 E Street, SW., JF0000, Washington, DC 20546, (202) 358-1351, Lori.Parker@nasa.gov.

SUPPLEMENTARY INFORMATION:

I. Abstract

The KEEP is a job shadowing program intended to provide students with career exploration under the mentorship of a Kennedy Space Center (KSC)NASA of contractor employee. Participation in the program is limited to students who are U.S. citizens, 16 years or older, who have been recommended by a teacher, guidance counselor, or other school official. Students may shadow for 1 day or up to 1 week.

II. Method of Collection

The collection of information will be made by the use of a Web-based on-line application system and a database of applicant information will be developed. We believe this is the most efficient and cost effective way to collect the information.

III. Data

Title: Kennedy Educational Experiences program (KEEP).

OMB Number: 2700-0135.

Type of Review: Extension, without change, of a currently approved collection.

Affected Public: Individuals or households.

Estimated Number of Respondents: 20.

Estimated Total Annual Burden Hours: 20.

Estimated Total Annual Cost to Government: $0.

IV. Request for Comments

Comments are invited on: (1) Whether the proposed collection of information is necessary for the proper performance of the functions of NASA, including whether the information collected has practical utility; (2) the accuracy of NASA's estimate of the burden (including hours and cost) of the proposed collection of information;(3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2010-25446 Filed 10-7-10; 8:45 am]

BILLING CODE P